DEPARTMENT OF COMMERCE

Foreign-Trade Zones Board

[Docket T-5-2011]

Foreign-Trade Zone 277—Western Maricopa County, AZ; Application for Temporary/Interim Manufacturing Authority; Sub-Zero, Inc.; (Refrigerators); Goodyear, AZ

An application has been submitted to the Executive Secretary of the Foreign-Trade Zones Board (the Board) by the Greater Maricopa County Foreign Trade Zone, Inc., grantee of FTZ 277, requesting temporary/interim manufacturing (T/IM) authority within FTZ 277 at the Sub-Zero, Inc. (Sub-Zero), facility, located in Goodyear, Arizona. The application was filed on October 3, 2011.

The Sub-Zero facility (260 employees, 10 acres, 150,000 units/year) is located at 4295 N. Cotton Lane within the Palm Valley 303 Industrial Park in Goodyear, Arizona (Site 3). Under T/IM procedures, Sub-Zero has requested authority to produce refrigerators (HTSUS 8418.10 and 8418.21, duty rate: free). Foreign components that would be used in production (representing 45% of the value of the finished refrigerators) include: ABS resin (HTSUS 3903.30), fittings (3917.40), rubber gaskets (4016.93), articles of rubber (4016.99), fasteners (7318.14, 7318.15, 7318.29), hinges (8302.10), brackets (8302.50), plates (8310.00), compressors (8414.30, 8414.90), parts of refrigerators (8418.99), filters (8421.21), filter/dryer (8421.29), valves (8481.80), motors (8501.10, 8501.40), inverters (8504.40), wiring harnesses (8516.80), switches (8536.50), plugs and sockets (8536.61), controllers (8537.10), lamps (8539.22), and conductors (8544.42) (duty rate range: free-8.6%). T/IM authority could be granted for a period of up to two years.

FTZ procedures could exempt Sub-Zero from customs duty payments on the foreign components used in export production. The company anticipates that some 10 percent of the plant's shipments will be exported. On its domestic sales, Sub-Zero would be able to choose the duty rate during customs entry procedures that applies to refrigerators (duty rate: free) for the foreign inputs noted above.

In accordance with the Board's regulations, Pierre Duy of the FTZ Staff is designated examiner to evaluate and analyze the facts and information presented in the application and case record and to report findings and recommendations pursuant to Board Orders 1347 and 1480.

Public comment is invited from interested parties. Submissions (original and 3 copies) shall be addressed to the Board's Executive Secretary at the following address: Office of the Executive Secretary, Foreign-Trade Zones Board, U.S. Department of Commerce, Room 2111, 1401 Constitution Ave., NW., Washington, DC 20230. The closing period for their receipt is November 10, 2011.

Sub-Zero has also submitted a request to the FTZ Board for FTZ manufacturing authority beyond a two-year period, which may include additional products and components. It should be noted that the request for extended authority would be docketed separately and would be processed as a distinct proceeding. Any party wishing to submit comments for consideration regarding the request for extended authority would need to submit such comments pursuant to the separate notice that would be published for that request.

A copy of the application will be available for public inspection at the Office of the Foreign-Trade Zones Board's Executive Secretary at the address listed above, and in the “Reading Room” section of the Board's Web site, which is accessible via http://www.trade.gov/ftz.

FOR FURTHER INFORMATION CONTACT: Pierre Duy at Pierre.Duy@trade.gov or (202) 482-1378.

Dated: October 4, 2011.
Andrew McGilvray,
Executive Secretary.

[FR Doc. 2011-26217 Filed 10-7-11; 8:45 am]

BILLING CODE 3510-DS-P